FEDERAL COMMUNICATIONS COMMISSION

47 CFR Part 73

[DA 99-2563; MM Docket No. 99-330; RM-9677]

Radio Broadcasting Services; Kankakee and Park Forest, IL

AGENCY: Federal Communications Commission.

ACTION: Proposed rule.

SUMMARY: The Commission requests comments on a petition filed by Gene Milner Broadcasting Company, Inc., proposing the reallotment of Channel 260B from Kankakee to Park Forest, Illinois, as the community's first local aural transmission service. Channel 260B can be reallotted to Park Forest in compliance with the Commission's minimum distance separation requirements without the imposition of a site restriction at petitioner's licensed site. The coordinates for Channel 260B at Park Forest are 41-18-04 North Latitude and 87-49-35 West Longitude.

DATES: Comments must be filed on or before February 7, 2000, and reply comments on or before February 22, 2000.

ADDRESSES: Federal Communications Commission, Washington, DC 20554. In addition to filing comments with the FCC, interested parties should serve the petitioner, his counsel, or consultant, as follows: Dennis J. Kelly, Esq., Post Office Box 6648, Annapolis, Maryland 21401 (Counsel for Petitioner).

FOR FURTHER INFORMATION CONTACT: Sharon P. McDonald, Mass Media Bureau, (202) 418-2180.

SUPPLEMENTARY INFORMATION: This is a synopsis of the Commission's Notice of Proposed Rule Making, MM Docket No. 99-330, adopted December 8, 1999, and released December 15, 1999. The full text of this Commission decision is available for inspection and copying during normal business hours in the FCC Reference Information Center (Room CY-A257), 445 12th Street, NW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-1470 Filed 1-20-00; 8:45 am]

BILLING CODE 6712-01-P